DEPARTMENT OF COMMERCE

Foreign-Trade Zones Board

[B-44-2019]

Foreign-Trade Zone (FTZ) 7—Mayaguez, Puerto Rico; Authorization of Production Activity; Patheon Puerto Rico, Inc. (Pharmaceutical Products), Manatí, Puerto Rico

On August 2, 2019, The Puerto Rico Industrial Development Company, grantee of FTZ 7, submitted a notification of proposed production activity to the FTZ Board on behalf of Patheon Puerto Rico, Inc., within FTZ 7, in Manatí, Puerto Rico.

The notification was processed in accordance with the regulations of the FTZ Board (15 CFR part 400), including notice in the Federal Register inviting public comment (84 FR 40020-40021, August 13, 2019). On December 2, 2019, the applicant was notified of the FTZ Board's decision that no further review of the activity is warranted at this time. The production activity described in the notification was authorized, subject to the FTZ Act and the FTZ Board's regulations, including Section 400.14.

Dated: December 2, 2019.
Elizabeth Whiteman,
Acting Executive Secretary.

[FR Doc. 2019-26269 Filed 12-4-19; 8:45 am]

BILLING CODE 3510-DS-P